NUCLEAR REGULATORY COMMISSION

Advisory Committee on Reactor Safeguards

Subcommittee Meeting on Thermal-Hydraulic Phenomena; Notice of Meeting

The ACRS Subcommittee meeting on Thermal-Hydraulic Phenomena scheduled for July 17-18, 2002 has been changed to a one day meeting, which will be held on Wednesday, July 17, 2002 at 8:30 a.m. in Room T-2B3, 11545 Rockville Pike, Rockville, Maryland.

The Subcommittee will continue its review of the NRC Office of Nuclear Regulatory Research (RES) draft Regulatory Guide, DG-1120, “Transient and Accident Analysis Methods”. The Subcommittee will also discuss the status of the RES experimental program pertaining to subcooled flow boiling phenomena.

Notice of this meeting was published in the Federal Register on Tuesday, July 2, 2002 (67 FR 44478). All other items pertaining to this meeting remain the same as previously published.

For further information contact: Mr. Paul A. Boehnert, Senior Staff Engineer (telephone 301-415-8065 or e-mail: PAB2@nrc.gov) between 7:30 a.m. and 5 p.m. (EDT).

Dated: July 9, 2002.
Sher Bahadur,
Associate Director for Technical Support.

[FR Doc. 02-17645 Filed 7-12-02; 8:45 am]

BILLING CODE 7590-01-P